NATIONAL AERONAUTICS AND SPACE ADMINISTRATION

[Notice (09-049)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: June 16, 2009.

FOR FURTHER INFORMATION CONTACT: James J. McGroary, Patent Counsel, Marshall Space Flight Center, Mail Code LS01, Huntsville, AL 35812; telephone (256) 544-0013; fax (256) 544-0258.

NASA Case No. MFS-32342-1-CIP: Nuclear Fuel Element Using Curvilinearly Grooved Fuel Rings;

NASA Case No. MFS-32733-1: Unbalanced-Flow, Fluid-Mixing Plug with Metering Capabilities;

NASA Case No. MFS-32748-1: Flow Plug with Length-to-Hole Size Uniformity for Use in Flow Conditioning and Flow Metering;

NASA Case No. MFS-32651-1: Orientation Control Method and System for Object in Motion.

Dated: June 10, 2009.
Richard W. Sherman,
Deputy General Counsel.

[FR Doc. E9-14059 Filed 6-15-09; 8:45 am]

BILLING CODE P